NATIONAL AERONAUTICS AND SPACE ADMINISTRATION

[Notice (05-135)]

NASA Advisory Council, Aeronautics Research Advisory Committee; Council of Deans Subcommittee; Vehicle Systems Program Subcommittee; Aviation Safety and Security Program Subcommittee; Meetings

AGENCY: National Aeronautics and Space Administration.

ACTION: Notice of meeting cancellation.

Federal Register Citations of Previous Announcements

Volume 70, Number 166, Page 51092, Notice Number 05-130, August 29, 2005; Volume 70, Number 166, Page 51092, Notice Number 05-131, August 29, 2005; Volume 70, Number 154, Page 46891, Notice Number 05-128, August 11, 2005; Volume 70, Number 154, Page 46892, Notice Number 05-127, August 11, 2005.

Previously Announced Dates of Meetings

Tuesday, September 20, 2005, 9 a.m. to 5 p.m. and Wednesday, September 21, 2005, 9 a.m. to 5 p.m.; Monday, September 19, 2005, 9 a.m. to 5 p.m.; Wednesday, September 14, 2005, 8:30 a.m. to 5 p.m.; Thursday, September 8, 2005, 9 a.m. to 5 p.m. These meetings will be rescheduled.

Contact Person For More Information: Mary-Ellen McGrath (202) 358-4729.

P. Diane Rausch,
Advisory Committee Management Officer, National Aeronautics and Space Administration.

[FR Doc. 05-18277 Filed 9-14-05; 8:45 am]

BILLING CODE 7510-13-P